COMMISSION ON CIVIL RIGHTS

Agenda and Notice of Public Meeting of the Tennessee Advisory Committee

Notice is hereby given, pursuant to the provisions of the rules and regulations of the U.S. Commission on Civil Rights (Commission) and the Federal Advisory Committee Act (FACA) that the Tennessee Advisory Committee (Committee) to the Commission will hold two meetings on Thursday, August 16, 2012, at the Nashville Public Library, 615 Church Street Nashville, Tennessee 37219. The first meeting is scheduled to begin at 2:00 p.m. and adjourn at approximately 2:45 p.m.; the purpose of the meeting is for Committee members to receive a briefing on voting rights in Tennessee for ex-felons. The second meeting is scheduled to begin at approximately 2:45 p.m. and adjourn at approximately 3:30 p.m.; the purpose of the meeting is for the Committee to plan its project on voting rights for ex-felons.

Members of the public are entitled to submit written comments. The comments must be received in the Southern Regional Office of the Commission by September 15, 2012. The address is Southern Regional Office, U.S. Commission on Civil Rights, 61 Forsyth Street Suite 16T126, Atlanta, GA 30303. Persons wishing to email their comments or who desire additional information should contact Peter Minarik, Regional Director, Southern Regional Office, at (404) 562-7000, (or for hearing impaired TDD 800-877-8339), or by email erodriguez@usccr.gov. Hearing-impaired persons who will attend the meeting and require the services of a sign language interpreter should contact the Regional Office at least ten (10) working days before the scheduled date of the meeting.

Records generated from this meeting may be inspected and reproduced at the Southern Regional Office, as they become available, both before and after the meeting. Persons interested in the work of this advisory committee are advised to go to the Commission's Web site, www.usccr.gov, or to contact the Southern Regional Office at the above email or street address. The meeting will be conducted pursuant to the provisions of the rules and regulations of the Commission and FACA.

Dated in Washington, DC, July 24, 2012.
Peter Minarik,
Acting Chief,Regional Programs Coordination Unit.

[FR Doc. 2012-18392 Filed 7-27-12; 8:45 am]

BILLING CODE 6335-01-P